ENVIRONMENTAL PROTECTION AGENCY

[ER-FRL-8599-3]

Environmental Impact Statements and Regulations; Availability of EPA Comments

Availability of EPA comments prepared pursuant to the Environmental Review Process (ERP), under section 309 of the Clean Air Act and Section 102(2)© of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Draft EISs

EIS No. 20090294, ERP No. D-AFS-L65579-OR, Off-Highway Vehicle (OHV) Management Plan, Including Forest Plan Amendment #17, Designation of Roads, Trails and Areas for OHV Use on Mt. Hood National Forest, Implementation, Clackamas, Hood River, Multnomah, and Wasco Counties, OR.

Summary: EPA expressed environmental concerns about impacts to water quality from sedimentation and the potential spread of invasive plants, and recommended the elimination of Off-Highway Vehicle routes with resource concerns. Rating EC2.

EIS No. 20090314, ERP No. D-FHW-F40450-IL, TIER 1—Elgin O'Hare—West Bypass Study, To Identify Multimodal Transportation Solutions, Cook and DuPage Counties, IL.

Summary: While EPA has no objections to this project, we asked conceptual mitigation for wetland losses be included in the Final EIS, and that detailed mitigation measures for wetlands, air quality and stormwater be developed in Tier 2. Rating LO.

Final EISs

EIS No. 20090322, ERP No. F-AFS-L65558-ID, Salmon-Challis National Forest (SCNF), Proposes Travel Planning and OHV Route Designation, Lemhi, Custer and Butte Counties, ID.

Summary: While EPA has no objection with the proposed action, we asked that the Forest Service further integrate water quality considerations into future travel management planning.

EIS No. 20090338, ERP No. F-AFS-L65574-OR, Big Summit Allotment Management Plan, Proposes to Reauthorize Cattle Term Grazing Permits, Construct Range Improvements, and Restore Riparian Vegetation on Five Allotments, Lookout Mountain Ranger District, Ochoco National Forest, Crook County, OR.

Summary: EPA does not object to the proposed action.

Dated: November 9, 2009.
Robert W. Hargrove,
Director, NEPA Compliance Division, Office of Federal Activities.

[FR Doc. E9-27311 Filed 11-10-09; 8:45 am]

BILLING CODE 6560-50-P